DEPARTMENT OF HEALTH AND HUMAN SERVICES

Food and Drug Administration

21 CFR Part 1

[Docket No. FDA-2014-N-0053]

RIN 0910-AI44

Requirements for Additional Traceability Records for Certain Foods

Correction

In rule document 2022-24417, appearing on pages 70910-71088, in the issue of Monday, November, 2022, make the following formatting correction:

On page 71077, in the second column, in lines 29-30, should appear as follows:

1.1320 When must I assign traceability lot codes to foods on the Food Traceability List?

Records of Critical Tracking Events

[FR Doc. C1-2022-24417 Filed 1-31-23; 8:45 am]

BILLING CODE 0099-10-P